DEPARTMENT OF THE TREASURY

Office of Foreign Assets Control

Additional Designations of Entities Pursuant to Executive Order 13405

AGENCY: Office of Foreign Assets Control, Treasury.

ACTION: Notice.

SUMMARY: The Treasury Department's Office of Foreign Assets Control (“OFAC”) is publishing the names of two newly-designated entities whose property and interests in property are blocked pursuant to Executive Order 13405 of June 16, 2006, “Blocking Property of Certain Persons Undermining Democratic Processes or Institutions in Belarus.”

DATES: The designation by the Director of OFAC of the two entities identified in this notice, pursuant to Executive Orders 13405, is effective November 13, 2007.

FOR FURTHER INFORMATION CONTACT: Assistant Director, Compliance Outreach & Implementation, Office of Foreign Assets Control, Department of the Treasury, 1500 Pennsylvania Avenue NW., (Treasury Annex), Washington, DC 20220, Tel.: 202/622-2490.

SUPPLEMENTARY INFORMATION:

Electronic and Facsimile Availability

Information about this designation and additional information concerning OFAC are available from OFAC's Web site (http://www.treas.gov/ofac) or via facsimile through a 24-hour fax-on-demand service, Tel.: 202/622-0077.

Background

On June 16, 2006, the President issued Executive Order 13405 (the “Order”) pursuant to, inter alia, the International Emergency Economic Powers Act (50 U.S.C. 1701-06). In the Order, the President declared a national emergency to address political repression, electoral fraud, and public corruption in Belarus. The Order imposes economic sanctions on persons responsible for actions or policies that undermine democratic processes or institutions in Belarus. The President identified ten individuals as subject to the economic sanctions in the Annex to the Order.

Section 1 of the Order blocks, with certain exceptions, all property, and interests in property, that are in, or hereafter come within, the United States or the possession or control of United States persons for persons listed in the Annex and those persons determined by the Secretary of the Treasury, after consultation with the Secretary of State, to satisfy any of the criteria set forth in subparagraphs (a)(ii)(A) through (a)(ii)(E) of Section 1. On November 13, 2007, the Director of OFAC exercised the Secretary of the Treasury's authority to designate, pursuant to one or more of the criteria set forth in Section 1, subparagraphs (a)(ii)(A) through (a)(ii)(E) of the Order, the following two entities, whose names have been added to the list of Specially Designated Nationals and whose property and interests in property are blocked, pursuant to Executive Order 13405:

1. BELNEFTEKHIM (a.k.a. BELARUSIAN STATE CONCERN FOR OIL AND CHEMISTRY; a.k.a. BELARUSIAN STATE PETROLEUM AND CHEMICALS CONCERN; a.k.a. BELNEFTEKHIM CONCERN; a.k.a. CONCERN BELNEFTEKHIM), 73 Dzerzhinskogo Avenue, Minsk 220116, Belarus; Oederweg 43, Frankfurt-am-Main D-60318, Germany; ul Trevskaya, 20/1, Room 536, Moscow 103789, Russia; ul Pavlovskaya, 29, Kiev 01135, Ukraine; Tower B 19-B Oriental Kenzo, 48 Dongzhimenwai Street, Dongcheng District, Beijing 100027, China; GP 1 Apes Street, Riga LV-1039, Latvia [BELARUS]

2. BELNEFTEKHIM USA, INC., 13 Branch St., # 213, Methuen, MA 01844; U.S. FEIN 000920912 (United States) [BELARUS]

Dated: November 13, 2007.
Adam J. Szubin,
Director, Office of Foreign Assets Control.

[FR Doc. E7-22559 Filed 11-16-07; 8:45 am]

BILLING CODE 4811-42-P